DEPARTMENT OF TRANSPORTATION

Federal Aviation Administration

[Docket No. 2024-1497]

Agency Information Collection Activities: Requests for Comments; Clearance of a Renewed] Approval of Information Collection: Certification of Repair Stations

AGENCY: Federal Aviation Administration (FAA), DOT.

ACTION: Notice and request for comments.

SUMMARY: In accordance with the Paperwork Reduction Act of 1995, FAA invites public comments about our intention to request the Office of Management and Budget (OMB) approval to renew an information collection. The collection involves applying for a repair station certificate, requesting amendments to the certificate, developing required programs and manuals, and maintaining employee qualification and training records. Additionally, repair stations located outside of the United States must apply to renew their FAA air agency certificate every two years. The information to be collected will be used to ensure applicants and certificate holders of FAA-issued repair station certificates use appropriate facilities and equipment, have sufficient processes and procedures, and use qualified personnel with appropriate training to perform maintenance, preventive maintenance, or alterations of aircraft, airframes, aircraft engines, propellers, appliances, or component parts.

DATES: Written comments should be submitted by July 29, 2024.

ADDRESSES: Please send written comments:

By Electronic Docket: www.regulations.gov (Enter docket number into search field).

By email: Henry H. Trammel, henry.trammel@faa.gov.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Henry H. Trammel by email at: henry.trammel@faa.gov; phone: (202) 267-1675.

SUPPLEMENTARY INFORMATION:

OMB Control Number: 2120-0682.

Title: Certification of Repair Stations, Part 145 of Title 14 CFR.

Form Numbers: FAA Form 8310-3.

Type of Review: Renewal of an information collection.

Background: Title 14 CFR, part 145, describes how to obtain a repair station certificate and contains the rules a certificated repair station must follow related to its performance of maintenance, preventive maintenance, or alterations of an aircraft, airframe, aircraft engine, propeller, appliance, or component part to which part 43 applies. The regulation requires repair station certificate holders and applicants to apply for a repair station certificate, including providing various application attachments, develop required programs and manuals, make certifications regarding hazardous materials training of employees, recommend repairman applicants employed by the repair station, and maintain employee qualification and training records. All certificate holders and applicants must develop a repair station manual, quality control manual, and training program, and request amendments to the certificate when necessary. Some certificate holders and applicants must develop a capability list, or a manual required by a bilateral agreement, or a hazardous materials training program. Repair stations located outside of the United States must apply to renew their FAA air agency certificate every two years. Additionally, the holder of an expired, surrendered, suspended, or revoked certificate must return it to the FAA. Requests for an initial certificate or a certificate amendment are made on FAA Form 8310-3, Application for Repair Station Certificate and/or Rating, and must be submitted to the responsible Flight Standards Office along with all required application attachments.

Respondents: 5,000 applicants and holders of FAA-issued part 145 air agency certificates.

Frequency: On occasion, or every 2 years for renewal applicants.

Estimated Average Burden per Response: 100 Hours annually for Reporting, 40 Hours for Recordkeeping.

Estimated Total Annual Burden: 240,869 Hours.

Issued in Washington, DC, on May 22, 2024.
Henry H. Trammel,
Aviation Safety Inspector, Office of Safety Standards, Aircraft Maintenance Division, Repair Station Section.

[FR Doc. 2024-11731 Filed 5-24-24; 8:45 am]

BILLING CODE 4910-13-P